DEPARTMENT OF HEALTH AND HUMAN SERVICES

National Advisory Council on the National Health Service Corps

AGENCY: Health Resources and Service Administration (HRSA), Department of Health and Human Services (HHS).

ACTION: Notice of meeting.

SUMMARY: The National Advisory Council on the National Health Service Corps (NACNHSC) has scheduled a public meeting. Information about NACNHSC and the agenda for this meeting can be found on the NACNHSC website at https://nhsc.hrsa.gov/about/national-advisory-council-nhsc/index.html.

DATES: September 17, 2018, 9:00 a.m.-5:00 p.m. ET, and September 18, 2018, 9:00 a.m.-2:30 p.m., E.T.

ADDRESSES: This meeting will be held in person and will offer virtual access through teleconference and webinar. The address for the meeting is 5600 Fishers Lane, Room 5W37, Rockville, Maryland 20857.

• Conference call-in number: 1-800-238-9007; passcode: 155333.

• Webinar link is https://hrsa.connectsolutions.com/nacnhsc.

FOR FURTHER INFORMATION CONTACT: Diane Fabiyi-King, Designated Federal Official (DFO), Division of National Health Service Corps, HRSA, 5600 Fishers Lane, Room 14N110, Rockville, Maryland 20857; 301-443-3609; or DFabiyi-King@hrsa.gov.

SUPPLEMENTARY INFORMATION: NACNHSC consults, advises, and makes recommendations to the HHS Secretary and the HRSA Administrator with respect to their responsibilities. NACNHSC also reviews and comments on regulations promulgated by the Secretary under Subpart II, Part D of Title III of the Public Health Service Act.

During the September 2018 meetings, NACNHSC will continue its discussion from the May 15, 2018, meeting to develop recommendations on the current NHSC focus areas and finalize policy recommendations to the Secretary and the HRSA Administrator. The current circumstances to strengthen the healthcare workforce and NHSC's role in the expansion and improvement of access to quality opioid and substance use disorder treatment in rural and underserved areas is an important opportunity for NACNHSC to add its voice. For this reason, NACNHSC will develop comprehensive policy recommendations and a framework to articulate a clear vision and mission statement that aligns with the BHW and HRSA strategic plan. An agenda will be posted on the NACNHSC website prior to the meeting. Agenda items are subject to change as priorities dictate.

Members of the public will have the opportunity to provide comments. Oral comments will be honored in the order they are requested and may be limited as time allows. Requests to make oral comments or provide written comments to the NACNHSC should be sent to Monica-Tia Bullock by email at MBullock@hrsa.gov at least 3 business days prior to the meeting. Council members are given copies of all written statements submitted from the public. Any further public participation will be solely at the discretion of the Chair, with approval of the DFO. Registration through the designated contact for the public comment session is required. Individuals who plan to attend and need special assistance or another reasonable accommodation should notify Monica-Tia Bullock using the email address listed above at least 10 business days prior to the meeting. Since this meeting occurs in a federal government building, attendees must go through a security check to enter the building. Non-U.S. Citizen attendees must notify HRSA of their planned attendance at least 10 business days prior to the meeting in order to facilitate their entry into the building. All attendees are required to present government-issued identification prior to entry.

Amy P. McNulty,
Acting Director, Division of the Executive Secretariat.

[FR Doc. 2018-18143 Filed 8-22-18; 8:45 am]

BILLING CODE 4165-15-P